DEPARTMENT OF HEALTH AND HUMAN SERVICES

National Institutes of Health

Center for Scientific Review; Amended Notice of Meeting

Notice is hereby given of a change in the meeting of the Enabling Bioanalytical and Biophysical Technologies Study Section, June 11, 2007, 8:30 a.m. to June 12, 2007, 5 p.m. The River Inn, 924 25th Street, NW., Washington, DC 20037 which was published in the Federal Register on April 20, 2007, 72 FR 19941-19942.

The meeting will be held one day only June 11, 2007, 8:30 a.m. to 6 p.m. The meeting location remains the same. The meeting is closed to the public.

Dated: May 16, 2007.
Jennifer Spaeth,
Director, Office of Federal Advisory Committee Policy.

[FR Doc. 07-2547 Filed 5-21-07; 8:45 am]

BILLING CODE 4140-01-M